DEPARTMENT OF COMMERCE

International Trade Administration

[Application No. 89-4A018]

Export Trade Certificate of Review

ACTION: Notice of issuance to amend the Export Trade Certificate of Review issued to Outdoor Power Equipment Institute, Inc., Application no. 89-4A018.

SUMMARY: The U.S. Department of Commerce issued an amended Export Trade Certificate of Review to Outdoor Power Equipment Institute, Inc. on August 29, 2013.

FOR FURTHER INFORMATION CONTACT: Joseph Flynn, Director, Office of Competition and Economic Analysis, International Trade Administration, (202) 482-5131 (this is not a toll-free number) or email at etca@trade.gov.

SUPPLEMENTARY INFORMATION: Title III of the Export Trading Company Act of 1982 (15 U.S.C. 4001-21) (“the Act”) authorizes the Secretary of Commerce to issue Export Trade Certificates of Review. The regulations implementing Title III are found at 15 CFR Part 325 (2013).

The Office of Competition and Economic Analysis (“OCEA”) is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

OPEI's Export Trade Certificate of Review has been amended to:

1. Add the following companies as new Members of OPEI's Certificate: Magic Circle Corporation d/b/a Dixie Chopper (Coatesville, IN) and Briggs & Stratton Corporation (Wauwatosa, WI).

2. Amend the definition of Products under OPEI's existing Certificate to clarify that Products covered include: Sand Trap Rakes (NAICS 333111), Aerators (NAICS 333112), Brushcutters (NAICS 333112), Hedge Trimmers (NAICS 333112), Hand-Held Snow Throwers (NAICS 333112), Split-Boom Products (NAICS 333112), Hand-Held Tillers and Cultivators (NAICS 333112).

3. Amend the definition of Products covered by OPEI's existing Certificate by replacing the current descriptive term “riding rotary turf mowers” (SIC 3524) with “riding mowers” to reflect coverage of Commercial Riding Mowers (NAICS 333111), and Residential Riding Mowers (NAICS 333112).

OPEI's amended Export Trade Certificate of Review membership includes:

Ariens Company, Brillion, WI

Briggs & Stratton Corporation (Wauwatosa, WI).

Deere & Company dba Worldwide Lawn & Grounds Care Division, Moline, IL

Dixon Industries, Inc., Coffeyville, KS

Excel Industries, Inc., Hesston, KS

Garden Way, Inc., Rensselaer, NY

Hoffco, Inc., Richmond, IN

Honda Power Equipment Manufacturing, Inc., Swepsonville, NC

Howard Price Turf Equipment, Chesterfield, MO

Ingersoll Equipment Company, Inc., Winnecone, WI

Kut-Kwick Corporation, Brunswick, GA

Magic Circle Corporation d/b/a Dixie Chopper (Coatesville, IN)

Maxim Manufacturing Corporation, Sebastopol, MS

MTD Products, Inc., Valley City, OH

Ransomes, Inc., Johnson Creek, WI

Scag Power Equipment, Inc., Mayville, WI

Simplicity Manufacturing, Inc., Port Washington, WI

Solo Incorporated, Newport News, Virginia

Southland Mower Company, Selma, AL

Textron, Inc, dba Bunton, a division of Jacobsen, a division of Textron, Inc., Louisville, KY

Toro Company (The), Minneapolis, MN

Yazoo Manufacturing Company, Inc., Jackson, MS

Dated: September 11, 2013.
Joseph E. Flynn,
Director, Office of Competition and Economic Analysis.

[FR Doc. 2013-22962 Filed 9-20-13; 8:45 am]

BILLING CODE 3510-DR-P